DEPARTMENT OF COMMERCE

National Institute of Standards and Technology

Notice of Workshop on Polymers for Photovoltaic Systems

AGENCY: National Institute of Standards and Technology, Department of Commerce.

ACTION: Notice of meeting.

SUMMARY: The National Institute of Standards and Technology announces a Workshop on Polymers for Photovoltaic Systems.

DATES: The workshop will be held over two days, Thursday, September 23, 8:30 a.m. to 5 p.m.; Friday, September 24, 8:30 a.m. to 12 p.m.

ADDRESSES: The meeting will be held at NIST's Gaithersburg campus, 100 Bureau Drive, Employee Lounge, Building 101, Gaithersburg, MD 20899. Please note admittance instructions under the SUPPLEMENTARY INFORMATION section of this notice.

FOR FURTHER INFORMATION CONTACT: Dr. Joannie Chin, Polymeric Materials Group, National Institute of Standards and Technology, Gaithersburg MD, (301) 975-6815, joannie.chin@nist.gov.

SUPPLEMENTARY INFORMATION: All attendees must contact Joannie Chin, joannie.chin@nist.gov, (301) 975-6815, by September 9 to pre-register and have appropriate government-issued photo ID to gain entry to NIST. Agenda items for the meeting include: presentations on polymeric materials used in photovoltaic systems; testing, performance, and reliability of polymers in photovoltaic systems; impact of polymers on safety standards and codes; breakout sessions to obtain stakeholder perspectives on the above mentioned topics; presentation of a NIST-developed accelerated aging and service life prediction methodology to polymers used in photovoltaic systems.

Dated: August 26, 2010.
Harry S. Hertz,
Director, Baldrige National Quality Program.

[FR Doc. 2010-21700 Filed 8-30-10; 8:45 am]

BILLING CODE 3510-13-P